DEPARTMENT OF TRANSPORTATION

Federal Aviation Administration

14 CFR Part 71

[Docket No. FAA-2020-0236; Airspace Docket No. 18-AEA-16]

RIN 2120-AA66

Proposed Establishment and Amendment of Area Navigation Routes, Northeast Corridor Atlantic Coast Routes; Northeastern United States

AGENCY: Federal Aviation Administration (FAA), DOT.

ACTION: Notice of proposed rulemaking (NPRM).

SUMMARY: This action proposes to establish 19 new high altitude area navigation (RNAV) routes (Q-routes), and modify 13 existing Q-routes, in support of the Northeast Corridor Atlantic Coast Route (NEC ACR) Project. This proposal would improve the efficiency of the National Airspace System (NAS) by expanding the availability of RNAV routing and reducing the dependency on ground-based navigational systems.

DATES: Comments must be received on or before May 8, 2020.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2020-0236; Airspace Docket No. 18-AEA-16 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FAA Order 7400.11, Airspace Designations and Reporting Points, is published yearly and effective on September 15.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0236; Airspace Docket No. 18-AEA-16) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0236; Airspace Docket No. 18-AEA-16.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at https://www.regulations.gov. Recently published rulemaking documents can also accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11D, Airspace Designations and Reporting Points, dated August 8, 2019, and effective September 15, 2019. FAA Order 7400.11D is publicly available as listed in the ADDRESSES section of this proposed rule. FAA Order 7400.11D lists Class A, B, C, D, and E airspace areas, air traffic service routes, and reporting points.

Background

The Northeast Corridor Atlantic Coast Route (NEC ACR) project developed Performance Based Navigation (PBN) routes involving the Washington, Boston, New York, and Jacksonville Air Route Traffic Control Centers (ARTCC). The proposed routes would enable aircraft to travel from most locations along the east coast of the United States mainland between Maine and Charleston, SC. The proposed NEC ACR routes would also tie-in to the existing high altitude RNAV route structure enabling more efficient direct routings between the U.S. east coast and Caribbean area locations.

Additionally, the proposed Q-routes would support the strategy to transition the NAS from a ground-based navigation aid, and radar-based system, to a satellite-based PBN system.

The Proposal

The FAA is proposing an amendment to Title 14, Code of Federal Regulations (14 CFR) part 71 to establish 19 new Q-routes, and amend 13 existing Q-routes, in the northeastern United States to support the Northeast Corridor Atlantic Coast Route project. The proposed new routes would be designated: Q-101, Q-107, Q-111, Q-115, Q-117, Q-119, Q-127, Q-129, Q-131, Q-133, Q-167, Q-220, Q-419, Q-430, Q-437, Q-439, Q-445, Q-450, and Q-481. In addition, amendments are proposed to the descriptions of the following existing routes: Q-22, Q-54, Q-60, Q-64, Q-85, Q-87, Q-97, Q-99, Q-109, Q-113, Q-135, Q-409, and Q-480.

Note: The route descriptions of Q-97, Q-109, Q-167, and Q-445 include waypoints located over international waters. In those route descriptions, in place of a two-letter state abbreviation, either “OA,” meaning “Offshore Atlantic,” or “OG,” meaning “Offshore Gulf of Mexico,” is used.

The proposed new Q-routes are as follows:

Q-101: Q-101 would extend between the SKARP, NC, waypoint (WP), and the DLAAY, MD, WP.

Q-107: Q-107 would extend between the GARIC, NC, WP, and the HURTS, VA, WP.

Q-111: Q-111 would extend between the ZORDO, NC, WP, and the ALXEA, VA, WP.

Q-115: Q-115 would extend between the Gordonsville, VA (GVE), VORTAC, and the Robbinsville, NJ (RBV), VORTAC.

Q-117: Q-117 would extend between the YLEEE, NC, WP, and the SAWED, VA, Fix.

Q-119: Q-119 would extend between the SCOOB, VA, WP, and the Westminster, MD (EMI), VORTAC.

Q-127: Q-127 would extend between the Gordonsville, VA (GVE), VORTAC, and the Smyrna, DE (ENO), VORTAC.

Q-129: Q-129 would extend between the GARIC, NC, WP, and the PYTON, MD, WP.

Q-131: Q-131 would extend between the ZILLS, NC, WP, and the ZJAAY, MD, WP.

Q-133: Q-133 would extend between the CHIEZ, NC, WP, and the PONCT, NY, WP.

Q-167: Q167 would extend between the ZJAAY, MD, WP, and the SSOXS, MA, Fix.

Q-220: Q-220 would extend between the RIFLE, NY, Fix, and the LARIE, MA, WP.

Q-419: Q-419 would extend between the BROSS, MD, Fix, and the Deer Park, NY (DPK), VOR/DME.

Q-430: Q-430 would extend between the ZANDER, OH, Fix, and the Nantucket, MA (ACK), VOR/DME.

Q-437: Q-437 would extend between the VILLS, NJ, Fix, and the SLANG, VT, WP

Q-439: Q-439 would extend between the BRIGS, NJ, Fix, and the Presque Isle, ME (PQI), VOR/DME.

Q-445: Q-445 would extend between the PAACK, NC, WP, and the KYSKY, NY, Fix.

Q-450: Q-450 would extend between the HNNAH, NJ, Fix, and the Deer Park, NY (DPK), VOR/DME.

Q-481: Q-481 would extend between the CONFR, MD, WP, and the Deer Park, NY (DPK), VOR/DME.

The above proposed new Q-routes would provide high altitude RNAV routing options in the general area between North Carolina and New England.

The proposed Q-route amendments are as follows:

Q-22: Q-22 extends between the GUSTI, LA, Fix, and the BEARI, VA, WP. This action would extend Q-22 northeast from the BEARI, VA, WP to the FOXWD, CT, WP. The following points would be inserted between the BEARI, VA, and the FOXWD, CT, WPs: UMBRE, VA, WP; BBOBO, VA, WP; SHTGN, MD, WP; SYFER, MD, WP; DANGR, MD, WP; PYTHN, DE, WP; BESSI, NJ, Fix; JOEPO, NJ, WP; BRAND, NJ, Fix; Robbinsville, NJ (RBV), VORTAC; LAURN, NY, Fix; LLUND, NY, Fix; and BAYYS, CT, Fix. As amended, Q-22 would extend between GUSTI, LA and FOXWD, CT. This would provide RNAV routing between Louisiana and the New England area.

Q-54: Q-54 extends between the Greenwood, SC (GRD), VORTAC, and the NUTZE, NC, WP. The proposal would remove the Greenwood VORTAC and add the HRTWL, SC, WP as a new end point for the route. In addition, the ASHEL, NC, WP would be added between the existing RAANE, NC, and the NUTZE, NC, WPs.

Q-60: Q-60 extends between the Spartanburg, SC (SPA), VORTAC, and the JAXSN, VA, Fix. This proposal would extend Q-60 northeast from the JAXSN, VA, Fix through the SHIRY, VA, WP, to the HURTS, VA, WP.

Q-64: Q-64 extends between the CATLN, AL, Fix, and the Tar River, NC (TYI), VORTAC. The proposal would remove the Greenwood, SC (GRD), VORTAC from the route and add the HRTWL, SC, WP between the FIGEY, GA and the DARRL, SC Fixes. The DADDS, NC, WP and the MARCL, NC, WPs would be added between the existing IDDAA, NC, WP, and the Tar River VORTAC. Additionally, the route would be extended northeast from the Tar River VORTAC, through the GUILD, NC, WP to the SAWED, VA, Fix.

Q-85: Q-85 extends between the LPERD, FL, WP, and the SMPRR, NC, WP. The proposal would insert the BEEGE, GA, WP between the LPERD, FL, and the GIPPL, GA, WPs. Additionally, the route would be extended to the northeast of the SMPRR, NC, WP by adding the PBCUP, NC, WP, the MOXXY, NC, WP, and the CRPLR, VA, WP after the SMPRR, NC, WP. As amended, Q-85 would extend between the LPERD, FL, WP and the CRPLR, VA, WP.

Q-87: Q-87 extends between the PEAKY, FL, WP, and the LCAPE, SC, WP. The route would be extended from the LCAPE, SC, WP to the HURTS, VA, WP. The following points would be inserted between the LCAPE, SC, and the HURTS, VA, WPs: ALWZZ, NC, WP; ASHEL, NC, WP; DADDS, NC, WP; NOWAE, NC, WP; RIDDN, VA, WP; and GEARS, VA, WP. The amended route would extend between PEAKY, FL, and HURTS, VA.

Q-97: Q-97 extends between TOVAR, FL, WP, and the ELLDE, NC, WP. The route would be extended northeast of the ELLDE, NC, WP to the Presque Isle, ME (PQI), VOR/DME. The following points would be inserted between the ELLDE, NC, and the Presque Isle VOR/DME: YEASO, NC, WP; PAACK, NC, WP; KOHLS, NC, WP; SAWED, VA, Fix; KALDA, VA, Fix; ZJAAY, MD, WP; DLAAY, MD, WP; BRIGS, NJ, Fix; HEADI, NJ, WP; SAILN, OA, WP; Calverton, NY (CCC), VOR/DME; NTMEG, CT, WP; VENTE, MA, WP; BLENO, NH, WP; BEEKN, ME, WP; and the FRIAR, ME, Fix. This would extend RNAV routing from southern North Carolina to Maine.

Q-99: Q-99 extends between the DOFFY, FL, WP, and the POLYY, NC, WP. Q-99 would be amended by moving the start point from the DOFFY, FL, WP to the KPASA, FL, WP (approximately 70 NM southeast of the DOFFY, FL, WP). From the KPASA WP, the route would proceed to the POLYY, NC, WP as currently charted. Then, the route would be extended northeast of the POLYY, NC, WP to the HURLE, VA, WP. The following points would be inserted between the POLYY, NC, and the HURLE, VA, WPs: RAANE, NC, WP; OGRAE, NC, WP; PEETT, NC, WP; SHIRY, VA, WP; UMBRE, VA, WP; and QUART, VA, WP. As amended, Q-99 would extend between the KPASA, FL WP, and the HURLE, VA, WP.

Q-109: Q-109 extends between the DOFFY, FL, WP, and the LAANA, NC, WP. This action would move the start point from the DOFFY, FL, WP to the KNOST, OG, WP (located over the Gulf of Mexico, approximately 40 NM northwest of the St. Petersburg, FL (PIE), VORTAC). This would provide connectivity to Gulf of Mexico routes. The DOFFY WP would be removed from the route. The DEANR, FL, WP, the BRUTS, FL, WP, and the EVANZ, FL, WP would be added to the route between the KNOST, OG, WP and the existing CAMJO, FL, WP. From that point the route would remain as currently charted to the LAANA, NC, WP. From the LAANA, NC, WP, Q-109 would be extended to the northeast through the TINKK, NC, WP to the DFENC, NC, WP. As amended, Q-109 would extend between the KNOST, OG, WP, and the DFENC, NC, WP.

Q-113: Q-113 extends between the RAYVO, SC, WP, and the SARKY, SC, WP. The route would be extended from the SARKY, SC, WP northeastward by adding the following WPs: MARCL, NC; AARNN, NC; and RIDDN, VA.

Q-135: Q-135 extends between the JROSS, SC, WP, and the RAPZZ, NC, WP. The route would be extended to the northeast of the RAPZZ, NC, WP by adding the ZORDO, NC, and the CUDLE, NC, WPs to the route. As amended, Q-135 would extend between the JROSS, SC, WP, and the CUDLE, NC, WP.

Q-409: Q-409 extends between the ENEME, GA, WP, and the MRPIT, NC, WP. Q-409 would remain as currently charted between the ENEME, GA, WP, and the MRPIT, NC, WP. The route would be extended to the northeast of the MRPIT WP by adding the following points: DEEEZ, NC, WP; GUILD, NC, WP; CRPLR, VA, WP; TRPOD, MD, WP; FELAT, DE, WP; VILLS, NJ, Fix; Coyle, NJ (CYN), VORTAC; to the WHITE, NJ, Fix. As amended, Q-409 would extend between the ENEME, GA, WP, and the WHITE, NJ, WP. This would extend RNAV routing from southern North Carolina to New Jersey.

Q-480: Q-480 extends between the ZANDR, OH, Fix, and the Kennebunk, ME, VORTAC. The route would be amended by inserting the KYLOH, NH, WP and the BEEKN, ME, WPs between the Barnes, MA (BAF), VORTAC, and the Kennebunk, ME (ENE), VOR/DME. Otherwise, Q-480 remains as currently charted.

Other changes to routes Q-85, Q-87, Q-99, and Q-109 are being proposed in a separate NPRM.

Full route descriptions of the proposed new and amended routes are listed in “The Proposed Amendment” section of this notice.

The proposed new and amended routes in this notice would expand the availability of high altitude RNAV routing along the eastern seaboard of the U.S. The project is designed to increase airspace capacity and reduce complexity in high volume areas through the use of optimized routes through congested airspace.

RNAV routes are published in paragraph 2006 of FAA Order 7400.11D dated August 8, 2019, and effective September 15, 2019, which is incorporated by reference in 14 CFR 71.1. The RNAV routes listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2006 United States Area Navigation Routes.

* * * * *

Q-101 SKARP, NC to DLAAY, MD [New]
SKARP, NC | WP | (Lat. 34°29′10.30″ N, long. 077°24′37.54″ W)
PRANK, NC | WP | (Lat. 35°14′27.41″ N, long. 076°56′28.54″ W)
BGBRD, NC | WP | (Lat. 35°53′45.11″ N, long. 076°32′23.15″ W)
HYPAL, VA | WP | (Lat. 37°03′27.23″ N, long. 075°44′43.09″ W)
TUGGR, VA | WP | (Lat. 37°41′08.72″ N, long. 075°36′36.92″ W)
EELIE, VA | WP | (Lat. 37°51′07.01″ N, long. 075°29′53.82″ W)
DLAAY, MD | WP | (Lat. 38°24′42.80″ N, long. 075°08′56.85″ W)
Q-107 GARIC, NC to HURTS, VA [New]
GARIC, NC | WP | (Lat. 33°52′34.84″ N, long. 077°58′53.66″ W)
ZORDO, NC | WP | (Lat. 34°52′01.73″ N, long. 077°49′30.60″ W)
JAAMS, NC | WP | (Lat. 35°44′18.05″ N, long. 077°31′41.60″ W)
ALINN, NC | WP | (Lat. 36°28′15.05″ N, long. 077°17′15.81″ W)
HURTS, VA | WP | (Lat. 37°27′41.87″ N, long. 076°57′17.75″ W)
Q-111 ZORDO, NC to ALXEA, VA [New]
ZORDO, NC | WP | (Lat. 34°52′01.73″ N, long. 077°49′30.60″ W)
LARKE, NC | WP | (Lat. 35°36′16.63″ N, long. 077°39′33.59″ W)
RUKRR, VA | WP | (Lat. 36°33′00.47″ N, long. 077°29′22.43″ W)
GEARS, VA | WP | (Lat. 37°06′07.23″ N, long. 077°23′24.43″ W)
BUDWY, VA | WP | (Lat. 37°36′38.12″ N, long. 077°19′22.71″ W)
ALXEA, VA | WP | (Lat. 37°47′04.46″ N, long. 077°17′09.73″ W)
Q-115 Gordonsville, VA (GVE) to Robbinsville, NJ (RBV) [New]
Gordonsville, VA (GVE) | VORTAC | (Lat. 38°00′48.96″ N, long. 078°09′10.90″ W)
BOOYA, VA | WP | (Lat. 38°24′20.50″ N, long. 077°21′46.36″ W)
DUALY, MD | WP | (Lat. 38°45′53.59″ N, long. 076°50′33.76″ W)
BIGRG, MD | WP | (Lat. 39°15′13.92″ N, long. 076°07′13.77″ W)
PNGWN, NJ | WP | (Lat. 39°39′27.07″ N, long. 075°30′41.79″ W)
HULKK, NJ | WP | (Lat. 39°59′53.04″ N, long. 074°58′52.52″ W)
Robbinsville, NJ (RBV) | VORTAC | (Lat. 40°12′08.65″ N, long. 074°29′42.09″ W)
Q-117 YLEEE, NC to SAWED, VA [New]
YLEEE, NC | WP | (Lat. 34°33′40.63″ N, long. 077°40′27.89″ W)
CUDLE, NC | WP | (Lat. 35°08′19.48″ N, long. 077°32′36.22″ W)
SUSSA, NC | WP | (Lat. 35°40′37.55″ N, long. 077°08′20.62″ W)
KTEEE, NC | WP | (Lat. 35°54′55.66″ N, long. 076°57′30.45″ W)
SAWED, VA | FIX | (Lat. 37°32′00.73″ N, long. 075°51′29.10″ W)
Q-119 SCOOB, VA to Westminster, MD (EMI) [New]
SCOOB, VA | WP | (Lat. 37°35′32.00″ N, long. 076°37′49.00″ W)
GROKK, VA | WP | (Lat. 37°52′22.88″ N, long. 076°40′49.87″ W)
RYVRR, VA | WP | (Lat. 38°02′17.54″ N, long. 076°42′36.92″ W)
SHTGN, MD | WP | (Lat. 38°14′45.29″ N, long. 076°44′52.23″ W)
DUALY, MD | WP | (Lat. 38°45′53.59″ N, long. 076°50′33.76″ W)
HALEX, MD | WP | (Lat. 38°53′49.13″ N, long. 076°52′01.49″ W)
Westminster, MD (EMI) | VORTAC | (Lat. 39°29′42.03″ N, long. 076°58′42.86″ W)
Q-127 Gordonsville, VA (GVE) to Smyrna, DE (ENO) [New]
Gordonsville, VA (GVE) | VORTAC | (Lat. 38°00′48.96″ N, long. 078°09′10.89″ W)
BUKYY, MD | WP | (Lat. 38°42′20.00″ N, long. 076°44′42.63″ W)
BAILZ, MD | WP | (Lat. 38°44′54.47″ N, long. 076°38′48.17″ W)
GRACO, MD | FIX | (Lat. 38°56′29.81″ N, long. 076°11′59.22″ W)
Smyrna, DE (ENO) | VORTAC | (Lat. 39°13′53.93″ N, long. 075°30′57.49″ W)
Q-129 GARIC, NC to PYTON, MD [New]
GARIC, NC | WP | (Lat. 33°52′34.84″ N, long. 077°58′53.66″ W)
YERBA, NC | WP | (Lat. 35°19′00.83″ N, long. 077°55′44.62″ W)
AARNN, NC | WP | (Lat. 36°22′43.59″ N, long. 078°01′04.05″ W)
THEOO, VA | WP | (Lat. 37°35′34.68″ N, long. 078°07′20.23″ W)
PYTON, MD | WP | (Lat. 39°42′38.01″ N, long. 078°18′10.19″ W)
Q-131 ZILLS, NC to ZJAAY, MD [New]
ZILLS, NC | WP | (Lat. 33°47′32.68″ N, long. 077°52′08.59″ W)
YLEEE, NC | WP | (Lat. 34°33′40.63″ N, long. 077°40′27.89″ W)
EARZZ, NC | WP | (Lat. 35°54′39.84″ N, long. 076°51′21.64″ W)
ODAWG, VA | WP | (Lat. 37°07′11.61″ N, long. 076°02′03.17″ W)
KALDA, VA | FIX | (Lat. 37°50′31.05″ N, long. 075°37′35.34″ W)
ZJAAY, MD | WP | (Lat. 38°03′09.95″ N, long. 075°26′34.27″ W)
Q-133 CHIEZ, NC to PONCT, NY [New]
CHIEZ, NC | WP | (Lat. 34°31′05.93″ N, long. 077°32′25.74″ W)
BENCH, NC | WP | (Lat. 35°34′48.52″ N, long. 076°53′51.13″ W)
KOOKI, NC | WP | (Lat. 35°54′21.71″ N, long. 076°41′56.22″ W)
PYSTN, VA | WP | (Lat. 37°05′19.78″ N, long. 075°53′22.19″ W)
KALDA, VA | FIX | (Lat. 37°50′31.05″ N, long. 075°37′35.34″ W)
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
MYRCA, NJ | WP | (Lat. 40°20′42.97″ N, long. 073°56′58.07″ W)
Kennedy, NY (JFK) | VOR/DME | (Lat. 40°37′58.40″ N, long. 073°46′17.00″ W)
LLUND, NY | FIX | (Lat. 40°51′45.04″ N, long. 073°46′57.30″ W)
DUEYS, NY | FIX | (Lat. 41°09′09.46″ N, long. 073°47′48.52″ W)
GANDE, NY | FIX | (Lat. 41°30′36.66″ N, long. 073°48′52.03″ W)
PONCT, NY | WP | (Lat. 42°44′48.83″ N, long. 073°48′48.07″ W)
Q-167 ZJAAY, MD to SSOXS, MA [New]
ZJAAY, MD | WP | (Lat. 38°03′09.95″ N, long. 075°26′34.27″ W)
PAJET, MD | WP | (Lat. 38°28′04.13″ N, long. 075°03′00.55″ W)
CAANO, MD | WP | (Lat. 38°31′46.37″ N, long. 074°58′52.32″ W)
TBONN, OA | WP | (Lat. 38°45′02.83″ N, long. 074°45′03.77″ W)
ZIZZI, NJ | FIX | (Lat. 38°56′26.46″ N, long. 074°31′44.27″ W)
YAZUU, NJ | FIX | (Lat. 39°24′44.82″ N, long. 074°01′01.55″ W)
TOPRR, OA | WP | (Lat. 39°50′49.13″ N, long. 073°32′12.02″ W)
EMJAY, NJ | FIX | (Lat. 40°05′34.89″ N, long. 073°15′42.31″ W)
SPDEY, OA | WP | (Lat. 40°14′56.38″ N, long. 073°05′08.69″ W)
RIFLE, NY | FIX | (Lat. 40°41′24.18″ N, long. 072°34′54.89″ W)
HOFFI, NY | FIX | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
GRONC, NY | WP | (Lat. 41°08′42.80″ N, long. 071°45′27.74″ W)
NESTT, RI | WP | (Lat. 41°21′35.84″ N, long. 071°20′05.38″ W)
BUZRD, MA | WP | (Lat. 41°32′45.88″ N, long. 070°57′50.69″ W)
SSOXS, MA | FIX | (Lat. 41°50′12.62″ N, long. 070°44′46.26″ W)
Q-220 RIFLE, NY to LARIE, MA [New]
RIFLE, NY | FIX | (Lat. 40°41′24.18″ N, long. 072°34′54.89″ W)
HOFFI, NY | FIX | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
Sandy Point, RI (SEY) | VOR/DME | (Lat. 41°10′02.77″ N, long. 071°34′33.91″ W)
SKOWL, RI | WP | (Lat. 41°15′47.18″ N, long. 071°16′44.35″ W)
JAWZZ, MA | WP | (Lat. 41°24′08.08″ N, long. 070°50′33.25″ W)
LARIE, MA | WP | (Lat. 41°49′23.46″ N, long. 069°58′41.96″ W)
Q-419 BROSS, MD to Deer Park, NY (DPK) [New]
BROSS, MD | FIX | (Lat. 39°11′28.40″ N, long. 075°52′49.88″ W)
MYFOO, DE | WP | (Lat. 39°26′10.15″ N, long. 075°36′44.70″ W)
NACYN, NJ | WP | (Lat. 39°36′49.19″ N, long. 075°24′59.30″ W)
BSERK, NJ | WP | (Lat. 39°47′27.01″ N, long. 075°13′10.29″ W)
HULKK, NJ | WP | (Lat. 39°59′53.04″ N, long. 074°58′52.52″ W)
Robbinsville, NJ (RBV) | VORTAC | (Lat. 40°12′08.65″ N, long. 074°29′42.09″ W)
LAURN, NY | FIX | (Lat. 40°33′05.80″ N, long. 074°07′13.67″ W)
Kennedy, NY (JFK) | VOR/DME | (Lat. 40°37′58.40″ N, long. 073°46′17.00″ W)
Deer Park, NY (DPK) | VOR/DME | (Lat. 40°47′30.30″ N, long. 073°18′13.17″ W)
Q-430 ZANDER, OH to Nantucket, MA (ACK) [New]
ZANDER, OH | FIX | (Lat. 40°00′18.75″ N, long. 081°31′58.35″ W)
Bellaire, OH (AIR) | VOR/DME | (Lat. 40°01′01.29″ N, long. 080°49′02.02″ W)
LEJOY, PA | FIX | (Lat. 40°00′12.22″ N, long. 079°24′53.61″ W)
VINSE, PA | FIX | (Lat. 39°58′16.21″ N, long. 077°57′21.20″ W)
BEETS, PA | FIX | (Lat. 39°57′20.57″ N, long. 077°26′59.55″ W)
LARRI, PA | FIX | (Lat. 39°57′02.33″ N, long. 077°17′54.14″ W)
SAAME, PA | FIX | (Lat. 40°01′51.82″ N, long. 076°29′02.39″ W)
BYRDD, PA | FIX | (Lat. 40°05′31.93″ N, long. 075°49′07.29″ W)
COPES, PA | FIX | (Lat. 40°07′50.57″ N, long. 075°22′36.37″ W)
Robbinsville, NJ (RBV) | VORTAC | (Lat. 40°12′08.65″ N, long. 074°29′42.09″ W)
MYRCA, NJ | WP | (Lat. 40°20′42.97″ N, long. 073°56′58.07″ W)
CREEL, NY | FIX | (Lat. 40°26′50.51″ N, long. 073°33′10.68″ W)
RIFLE, NY | FIX | (Lat. 40°41′24.18″ N, long. 072°34′54.89″ W)
KYSKY, NY | FIX | (Lat. 40°46′52.75″ N, long. 072°12′21.45″ W)
LIBBE, NY | FIX | (Lat. 41°00′15.86″ N, long. 071°21′20.34″ W)
FLAPE, MA | FIX | (Lat. 41°03′56.30″ N, long. 071°04′10.55″ W)
DEEPO, MA | FIX | (Lat. 41°06′53.96″ N, long. 070°50′09.85″ W)
Nantucket, MA (ACK) | VOR/DME | (Lat. 41°16′54.79″ N, long. 070°01′36.16″ W)
Q-437 VILLS, NJ to SLANG, VT [New]
VILLS, NJ | FIX | (Lat. 39°18′03.87″ N, long. 075°06′37.89″ W)
DITCH, NJ | FIX | (Lat. 39°47′37.86″ N, long. 074°42′59.88″ W)
LUIGI, NJ | FIX | (Lat. 40°04′09.65″ N, long. 074°26′40.32″ W)
HNNAH, NJ | FIX | (Lat. 40°28′12.73″ N, long. 074°02′36.62″ W)
LLUND, NY | FIX | (Lat. 40°51′45.04″ N, long. 073°46′57.30″ W)
BINGS, NY | WP | (Lat. 42°00′33.26″ N, long. 073°30′01.81″ W)
SLANG, VT | WP | (Lat. 43°14′24.64″ N, long. 073°11′09.69″ W)
Q-439 BRIGS, NJ to Presque Isle, ME (PQI) [New]
BRIGS, NJ | FIX | (Lat. 39°31′24.72″ N, long. 074°08′19.67″ W)
DRIFT, NJ | FIX | (Lat. 39°48′53.56″ N, long. 073°40′49.53″ W)
MANTA, NJ | FIX | (Lat. 39°54′07.01″ N, long. 073°32′31.63″ W)
PLUME, NJ | FIX | (Lat. 40°07′06.67″ N, long. 073°17′08.03″ W)
SHERL, NY | FIX | (Lat. 40°15′20.55″ N, long. 073°07′18.26″ W)
DUNEE, NY | FIX | (Lat. 40°19′24.38″ N, long. 073°02′26.06″ W)
SARDI, NY | FIX | (Lat. 40°31′26.61″ N, long. 072°47′55.87″ W)
RIFLE, NY | FIX | (Lat. 40°41′24.18″ N, long. 072°34′54.89″ W)
FOXWD, CT | WP | (Lat. 41°48′21.66″ N, long. 071°48′07.03″ W)
BOGRT, MA | WP | (Lat. 42°13′56.08″ N, long. 071°31′07.37″ W)
BLENO, NH | WP | (Lat. 42°54′55.00″ N, long. 071°04′43.37″ W)
BEEKN, ME | WP | (Lat. 43°20′51.95″ N, long. 070°44′50.28″ W)
FRIAR, ME | FIX | (Lat. 44°26′28.93″ N, long. 069°53′04.38″ W)
Presque Isle, ME (PQI) | VOR/DME | (Lat. 46°46′27.07″ N, long. 068°05′40.37″ W)
Q-445 PAACK, NC to KYSKY, NY [New]
PAACK, NC | WP | (Lat. 35°55′40.26″ N, long. 077°15′30.99″ W)
JAMIE, VA | FIX | (Lat. 37°36′20.58″ N, long. 075°57′48.81″ W)
CONFR, MD | WP | (Lat. 38°16′10.90″ N, long. 075°24′32.98″ W)
RADDS, DE | FIX | (Lat. 38°38′54.80″ N, long. 075°05′18.48″ W)
WNSTN, NJ | WP | (Lat. 39°05′43.81″ N, long. 074°48′01.20″ W)
AVALO, NJ | FIX | (Lat. 39°16′54.52″ N, long. 074°30′50.75″ W)
BRIGS, NJ | FIX | (Lat. 39°31′24.72″ N, long. 074°08′19.67″ W)
SHAUP, OA | WP | (Lat. 39°44′23.91″ N, long. 073°34′33.84″ W)
VALCO, OA | WP | (Lat. 40°05′29.86″ N, long. 073°08′22.91″ W)
KYSKY, NY | FIX | (Lat. 40°46′52.75″ N, long. 072°12′21.45″ W)
Q-450 HNNAH, NJ to Deer Park, NY (DPK) [New]
HNNAH, NJ | FIX | (Lat. 40°28′12.73″ N, long. 074°02′36.62″ W)
Kennedy, NY (JFK) | VOR/ME | (Lat. 40°37′58.40″ N, long. 073°46′17.00″ W)
Deer Park, NY (DPK) | VOR/DME | (Lat. 40°47′30.30″ N, long. 073°18′13.17″ W)
Q-481 CONFR, MD to Deer Park, NY (DPK) [New]
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
ZIGGI, NJ | FIX | (Lat. 40°03′07.01″ N, long. 074°00′49.34″ W)
Deer Park, NY (DPK) | VOR/DME | (Lat. 40°47′30.30″ N, long. 073°18′13.17″ W)
Q-22 GUSTI, LA to FOXWD, CT [Amended]
GUSTI, LA | FIX | (Lat. 29°58′15.34″ N, long. 092°54′35.29″ W)
OYSTY, LA | FIX | (Lat. 30°28′15.21″ N, long. 090°11′49.14″ W)
ACMES, AL | WP | (Lat. 30°55′27.13″ N, long. 088°22′10.82″ W)
CATLN, AL | FIX | (Lat. 31°18′26.03″ N, long. 087°34′47.75″ W)
TWOUP, GA | WP | (Lat. 33°53′45.39″ N, long. 083°49′08.39″ W)
Spartanburg, SC (SPA) | VORTAC | (Lat. 35°02′01.05″ N, long. 081°55′37.24″ W)
NYBLK, NC | WP | (Lat. 35°34′34.99″ N, long. 081°02′33.96″ W)
MASHI, NC | WP | (Lat. 35°58′17.90″ N, long. 080°23′04.71″ W)
KIDDO, NC | WP | (Lat. 36°10′34.90″ N, long. 080°02′23.69″ W)
OMENS, VA | WP | (Lat. 36°49′29.00″ N, long. 078°55′29.78″ W)
BEARI, VA | WP | (Lat. 37°12′01.97″ N, long. 078°15′23.85″ W)
UMBRE, VA | WP | (Lat. 37°23′38.72″ N, long. 077°49′09.50″ W)
BBOBO, VA | WP | (Lat. 37°41′33.79″ N, long. 077°07′57.59″ W)
SHTGN, MD | WP | (Lat. 38°14′45.29″ N, long. 076°44′52.23″ W)
SYFER, MD | WP | (Lat. 38°25′19.31″ N, long. 076°33′26.82″ W)
DANGR, MD | WP | (Lat. 38°57′36.25″ N, long. 075°58′30.85″ W)
PYTHN, DE | WP | (Lat. 39°18′06.97″ N, long. 075°33′59.66″ W)
BESSI, NJ | FIX | (Lat. 39°40′34.84″ N, long. 075°06′44.53″ W)
JOEPO, NJ | WP | (Lat. 39°54′22.11″ N, long. 074°52′17.73″ W)
BRAND, NJ | FIX | (Lat. 40°02′06.28″ N, long. 074°44′09.50″ W)
Robbinsville, NJ (RBV) | VORTAC | (Lat. 40°12′08.65″ N, long. 074°29′42.09″ W)
LAURN, NY | FIX | (Lat. 40°33′05.80″ N, long. 074°07′13.67″ W)
LLUND, NY | FIX | (Lat. 40°51′45.04″ N, long. 073°46′57.30″ W)
BAYYS, CT | FIX | (Lat. 41°17′21.27″ N, long. 072°58′16.73″ W)
FOXWD, CT | WP | (Lat. 41°48′21.66″ N, long. 071°48′07.03″ W)
Q-54 HRTWL SC to NUTZE, NC [Amended]
HRTWL, SC | WP | (Lat. 34°15′05.33″ N, long. 082°09′15.55″ W)
NYLLA, SC | WP | (Lat. 34°34′38.94″ N, long. 081°17′00.48″ W)
CHYPS, NC | WP | (Lat. 34°53′17.92″ N, long. 080°25′57.04″ W)
AHOEY, NC | WP | (Lat. 35°00′36.28″ N, long. 080°05′55.93″ W)
RAANE, NC | WP | (Lat. 35°09′21.97″ N, long. 079°41′33.90″ W)
ASHEL, NC | WP | (Lat. 35°25′43.32″ N, long. 078°54′48.07″ W)
NUTZE, NC | WP | (Lat. 35°50′40.43″ N, long. 077°40′56.72″ W)
Q-60 Spartanburg, SC (SPA) to HURTS, VA [Amended]
Spartanburg, SC (SPA) | VORTAC | (Lat. 35°02′01.05″ N, long. 081°55′37.24″ W)
BYJAC, NC | FIX | (Lat. 35°57′27.08″ N, long. 080°09′02.83″ W)
EVING, NC | WP | (Lat. 36°05′21.65″ N, long. 079°53′56.38″ W)
LOOEY, VA | WP | (Lat. 36°35′04.56″ N, long. 079°01′09.41″ W)
JAXSN, VA | FIX | (Lat. 36°42′38.22″ N, long. 078°47′23.31″ W)
SHIRY, VA | WP | (Lat. 36°58′33.28″ N, long. 078°09′13.11″ W)
HURTS, VA | WP | (Lat. 37°27′41.87″ N, long. 076°57′17.75″ W)
Q-64 CATLN, AL to SAWED, VA [Amended]
CATLN, AL | FIX | (Lat. 31°18′26.03″ N, long. 087°34′47.75″ W)
FIGEY, GA | WP | (Lat. 33°52′26.94″ N, long. 082°52′22.76″ W)
HRTWL, SC | WP | (Lat. 34°15′05.33″ N, long. 082°09′15.55″ W)
DARRL, SC | FIX | (Lat. 34°47′49.47″ N, long. 081°03′21.62″ W)
IDDAA, NC | WP | (Lat. 35°11′05.10″ N, long. 079°59′30.69″ W)
DADDS, NC | WP | (Lat. 35°36′30.35″ N, long. 078°47′20.70″ W)
MARCL, NC | WP | (Lat. 35°43′54.41″ N, long. 078°25′46.57″ W)
Tar River, NC (TYI) | VORTAC | (Lat. 35°58′36.20″ N, long. 077°42′13.43″ W)
GUILD, NC | WP | (Lat. 36°18′49.56″ N, long. 077°14′59.96″ W)
SAWED, VA | FIX | (Lat. 37°32′00.73″ N, long. 075°51′29.10″ W)
Q-85 LPERD, FL to CRPLR, VA [Amended]
LPERD, FL | WP | (Lat. 30°36′09.18″ N, long. 081°16′52.16″ W)
BEEGE, GA | WP | (Lat. 31°10′59.98″ N, long. 081°16′57.50″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
PBCUP, NC | WP | (Lat. 34°59′29.65″ N, long. 078°19′51.07″ W)
MOXXY, NC | WP | (Lat. 36°02′46.63″ N, long. 077°19′31.71″ W)
CRPLR, VA | WP | (Lat. 37°36′24.01″ N, long. 076°09′57.67″ W)
Q-87 PEAKY, FL to HURTS, VA [Amended]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
FEMON, FL | WP | (Lat. 30°27′31.57″ N, long. 081°23′36.20″ W)
VIYAP, GA | FIX | (Lat. 31°15′08.15″ N, long. 081°26′08.18″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
ALWZZ, NC | WP | (Lat. 34°42′02.90″ N, long. 079°24′36.57″ W)
ASHEL, NC | WP | (Lat. 35°25′43.32″ N, long. 078°54′48.07″ W)
DADDS, NC | WP | (Lat. 35°36′30.35″ N, long. 078°47′20.70″ W)
NOWAE, NC | WP | (Lat. 36°22′39.49″ N, long. 078°14′59.21″ W)
RIDDN, VA | WP | (Lat. 36°47′21.19″ N, long. 077°45′50.29″ W)
GEARS, VA | WP | (Lat. 37°06′07.23″ N, long. 077°23′24.43″ W)
HURTS, VA | WP | (Lat. 37°27′41.87″ N, long. 076°57′17.75″ W)
Q-97 TOVAR, FL to Presque Isle, ME (PQI) [Amended]
TOVAR, FL | WP | (Lat. 26°33′05.09″ N, long. 080°02′19.75″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELMSZ, SC | WP | (Lat. 33°40′36.61″ N, long. 079°17′59.56″ W)
YURCK, NC | WP | (Lat. 34°11′14.80″ N, long. 078°52′40.62″ W)
ELLDE, NC | WP | (Lat. 34°24′14.57″ N, long. 078°41′50.60″ W)
YEASO, NC | WP | (Lat. 35°33′12.41″ N, long. 077°37′07.28″ W)
PAACK, NC | WP | (Lat. 35°55′40.26″ N, long. 077°15′30.99″ W)
KOHLS, NC | WP | (Lat. 36°22′17.76″ N, long. 076°52′21.48″ W)
SAWED, VA | FIX | (Lat. 37°32′00.73″ N, long. 075°51′29.10″ W)
KALDA, VA | FIX | (Lat. 37°50′31.05″ N, long. 075°37′35.34″ W)
ZJAAY, MD | WP | (Lat. 38°03′09.95″ N, long. 075°26′34.27″ W)
DLAAY, MD | WP | (Lat. 38°24′42.80″ N, long. 075°08′56.85″ W)
BRIGS, NJ | FIX | (Lat. 39°31′24.72″ N, long. 074°08′19.67″ W)
HEADI, NJ | WP | (Lat. 39°57′49.56″ N, long. 073°43′28.85″ W)
SAILN, OA | WP | (Lat. 40°15′15.92″ N, long. 073°27′01.93″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
BEEKN, ME | WP | (Lat. 43°20′51.95″ N, long. 070°44′50.28″ W)
FRIAR, ME | FIX | (Lat. 44°26′28.93″ N, long. 069°53′04.38″ W)
Presque Isle, ME (PQI) | VOR/DME | (Lat. 46°46′27,07″ N, long. 068°05′40.37″ W)
Q-99 KPASA, FL to HURLE, VA [Amended]
KPASA, FL | WP | (Lat. 28°10′34.00″ N, long. 081°54′27.00″ W)
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
RAANE, NC | WP | (Lat. 35°09′21.97″ N, long. 079°41′33.90″ W)
OGRAE, NC | WP | (Lat. 35°44′44.41″ N, long. 079°11′07.71″ W)
PEETT, NC | WP | (Lat. 36°26′44.93″ N, long. 078°34′16.17″ W)
SHIRY, VA | WP | (Lat. 36°58′33.28″ N, long. 078°09′13.11″ W)
UMBRE, VA | WP | (Lat. 37°23′38.72″ N, long. 077°49′09.50″ W)
QUART, VA | WP | (Lat. 37°31′25.15″ N, long. 077°42′53.29″ W)
HURLE, VA | WP | (Lat. 37°44′01.09″ N, long. 077°32′42.16″ W)
Q-109 KNOST, OG to DFENC, NC [Amended]
KNOST, OG | WP | (Lat. 28°00′02.55″ N, long. 083°25′23.99″ W)
DEANR, FL | WP | (Lat. 29°15′30.40″ N, long. 083°03′30.24″ W)
BRUTS, FL | WP | (Lat. 29°30′58.00″ N, long. 082°58′57.00″ W)
EVANZ, FL | WP | (Lat. 29°54′12.11″ N, long. 082°52′03.81″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, SC | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
TINKK, NC | WP | (Lat. 34°51′03.78″ N, long. 078°05′48.08″ W)
DFENC, NC | WP | (Lat. 35°55′11.09″ N, long. 077°03′37.54″ W)
Q-113 RAYVO, SC to RIDDN, VA [Amended]
RAYVO, SC | WP | (Lat. 33°38′44.12″ N, long. 080°04′00.84″ W)
CEELY, SC | WP | (Lat. 34°12′54.72″ N, long. 079°27′57.01″ W)
SARKY, SC | WP | (Lat. 34°25′41.43″ N, long. 079°14′17.50″ W)
MARCL, NC | WP | (Lat. 35°43′54.41″ N, long. 078°25′46.57″ W)
AARNN, NC | WP | (Lat. 36°22′43.59″ N, long. 078°01′04.05″ W)
RIDDN, VA | WP | (Lat. 36°47′21.19″ N, long. 077°45′50.29″ W)
Q-135 JROSS, SC to CUDLE, NC [Amended]
JROSS, SC | WP | (Lat. 32°42′40.00″ N, long. 080°37′38.00″ W)
PELIE, SC | WP | (Lat. 33°21′23.88″ N, long. 079°44′43.43″ W)
ELMSZ, SC | WP | (Lat. 33°40′36.61″ N, long. 079°17′59.56″ W)
RAPZZ, NC | WP | (Lat. 34°15′03.34″ N, long. 078°29′17.58″ W)
ZORDO, NC | WP | (Lat. 34°52′01.73″ N, long. 077°49′30.60″ W)
CUDLE, NC | WP | (Lat. 35°08′19.48″ N, long. 077°32′36.22″ W)
Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
JROSS, SC | WP | (Lat. 32°42′40.00″ N, long. 080°37′38.00″ W)
SESUE, SC | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
DEEEZ, NC | WP | (Lat. 35°16′55.92″ N, long. 078°14′24.28″ W)
GUILD, NC | WP | (Lat. 36°18′49.56″ N, long. 077°14′59.96″ W)
CRPLR, VA | WP | (Lat. 37°36′24.01″ N, long. 076°09′57.67″ W)
TRPOD, MD | WP | (Lat. 38°20′17.30″ N, long. 075°30′28.27″ W)
FELAT, DE | WP | (Lat. 39°05′20.33″ N, long. 075°22′14.81″ W)
VILLS, NJ | FIX | (Lat. 39°18′03.87″ N, long. 075°06′37.89″ W)
Coyle, NJ (CYN) | VORTAC | (Lat. 39°49′02.42″ N, long. 074°25′53.85″ W)
WHITE, NJ | FIX | (Lat. 40°00′24.32″ N, long. 074°15′04.61″ W)
Q-480 ZANDR, OH to Kennebunk, ME (ENE) [Amended]
ZANDR, OH | FIX | (Lat. 40°00′18.75″ N, long. 081°31′58.35″ W)
Bellaire, OH (AIR) | VOR/DME | (Lat. 40°01′01.29″ N, long. 080°49′02.02″ W)
LEJOY, PA | FIX | (Lat. 40°00′12.22″ N, long. 079°24′53.61″ W)
VINSE, PA | FIX | (Lat. 39°58′16.21″ N, long. 077°57′21.20″ W)
BEETS, PA | FIX | (Lat. 39°57′20.57″ N, long. 077°26′59.55″ W)
HOTEE, PA | WP | (Lat. 40°20′36.00″ N, long. 076°29′37.00″ W)
MIKYG, PA | WP | (Lat. 40°36′06.00″ N, long. 075°49′11.00″ W)
SPOTZ, PA | WP | (Lat. 40°45′55.00″ N, long. 075°22′59.00″ W)
CANDR, NJ | FIX | (Lat. 40°58′15.55″ N, long. 074°57′35.38″ W)
JEFFF, NJ | FIX | (Lat. 41°14′46.38″ N, long. 074°27′43.29″ W)
Kingston, NY (IGN) | VOR/DME | (Lat. 41°39′55.62″ N, long. 073°49′20.01″ W)
LESWL, CT | WP | (Lat. 41°53′31.00″ N, long. 073°19′20.00″ W)
Barnes, MA (BAF) | VORTAC | (Lat. 42°09′43.05″ N, long. 072°42′58.32″ W)
KYLOH, NH | WP | (Lat. 43°03′53.11″ N, long. 071°13′45.49″ W)
BEEKN, ME | WP | (Lat. 43°20′51.95″ N, long. 070°44′50.28″ W)
Kennebunk, ME (ENE) | VOR/DME | (Lat. 43°25′32.42″ N, long. 070°36′48.69″ W)

* * * * *

Issued in Washington, DC, on March 11, 2020.
Scott M. Rosenbloom,
Acting Manager, Rules and Regulations Group.

[FR Doc. 2020-05860 Filed 3-23-20; 8:45 am]

BILLING CODE 4910-13-P